DEPARTMENT OF TRANSPORTATION

National Highway Traffic Safety Administration

[Docket No. NHTSA-2015-0021]

Notice of Buy America Waiver

AGENCY: National Highway Traffic Safety Administration (NHTSA), Department of Transportation (DOT).

ACTION: Notice of Buy America waiver.

SUMMARY: This notice provides NHTSA's finding that a waiver of the Buy America requirement is appropriate for the purchase of Radian model 120 convertible car seats by the New Hampshire Highway Safety Agency, using Federal grant funds. NHTSA finds that a non-availability waiver of the Buy America requirement is appropriate for the purchase of these car seats using Federal highway safety grant funds because there are no suitable products produced in the United States.

DATES: The effective date of this waiver is April 30, 2015. Written comments regarding this notice may be submitted to NHTSA and must be received on or before: May 5, 2015.

ADDRESSES: Written comments may be submitted using any one of the following methods:

• Mail: Docket Management Facility, M-30, U.S. Department of Transportation, West Building, Ground Floor, Rm. W12-140, 1200 New Jersey Avenue SE., Washington, DC 20590.

• Fax: Written comments may be faxed to (202) 493-2251.

• Internet: To submit comments electronically, go to the Federal regulations Web site at http://www.regulations.gov. Follow the online instructions for submitting comments.

• Hand Delivery: West Building Ground Floor, Room W12-140, 1200 New Jersey Avenue SE., between 9 a.m. and 5 p.m. Eastern Time, Monday through Friday, except Federal holidays.

Instructions: All comments submitted in relation to this waiver must include the agency name and docket number. Please note that all comments received will be posted without change to http://www.regulations.gov, including any personal information provided. You may also call the Docket at 202-366-9324.

FOR FURTHER INFORMATION CONTACT: For program issues, contact Barbara Sauers, Office of Regional Operations and Program Delivery, NHTSA (phone: 202-366-0144). For legal issues, contact Andrew DiMarsico, Office of Chief Counsel, NHTSA (phone: 202-366-5263). You may send mail to these officials at the National Highway Traffic Safety Administration, 1200 New Jersey Avenue SE., Washington, DC 20590.

SUPPLEMENTARY INFORMATION: This notice provides NHTSA's finding that a waiver of the Buy America requirements, 23 U.S.C. 313, is appropriate for the New Hampshire Highway Safety Agency to purchase 20 Radian model 120 convertible car seats using grant funds authorized under 23 U.S.C. 402 (section 402). Section 402 funds are available for use by State Highway Safety Programs that, among other things, encourage the proper use of occupant protection devices, including child restraint systems. 23 U.S.C. 402(a).

Buy America provides that NHTSA “shall not obligate any funds authorized to be appropriated to carry out the Surface Transportation Assistance Act of 1982 (96 Stat. 2097) or [Title 23] and administered by the Department of Transportation, unless steel, iron, and manufactured products used in such project are produced in the United States.” 23 U.S.C. 313. However, NHTSA may waive this requirement if “(1) its application would be inconsistent with the public interest; (2) such materials and products are not produced in the United States in sufficient and reasonably available quantities and of a satisfactory quality; or (3) the inclusion of domestic material will increase the cost of the overall project contract by more than 25 percent.” 23 U.S.C. 313(b). In this instance, NHTSA has determined that a waiver is appropriate for the purchase of Radian Model 120 convertible car seats because there is no comparable product produced domestically that meets the need identified by the New Hampshire Highway Safety Agency—specifically, child seats that can safely transport children from 5 to 80 pounds in the patient compartment of an ambulance and that occupy minimal space in the ambulance when not in use.

The New Hampshire Highway Safety Agency seeks a waiver for one of its grantees, the New Hampshire Emergency Medical Services for Children Program (EMSC), to purchase 20 Radian car seats for use by ambulance services throughout New Hampshire. The Radian model 120 convertible car seat was selected by these programs because it has a 5 to 80 pound weight allowance, which meets the equipment requirements in Chapter Saf-C 5900 of the New Hampshire Emergency Medical Services Rules. The New Hampshire Highway Safety Agency states that the selected model is preferred because the car seat folds flat, limiting the storage space it occupies. The New Hampshire Highway Safety Agency further notes that the New Hampshire rules specify an extensive list of equipment that must be included in an ambulance, and that ambulance services have stated that there is insufficient space to store typical child seats that do not fold.

The New Hampshire Highway Safety Agency notes that “Working Group Best-Practice Recommendations for the Safe Transportation of Children in Emergency Ground Ambulances,” issued by NHTSA in September 2012, recommends that children transported by ambulance are secured using a size-appropriate child restraint system in either the cot (stretcher) or the captain's chair. The Radian model is convertible and can be used on the ambulance cot and the captain's chair to secure children up to 80 pounds in a 5-point harness. Finally, the Radian Model 120 has a steel alloy frame that gives the seat a life span of 10 years.

The model, sold through the Diono Company, retails for approximately $240 per seat. It is manufactured in China.

NHTSA conducted an assessment of available child restraints and is not aware of a comparable child seat produced in the United States. The Radian model 120 seat is unique in the child seat market because it can safely secure children from 5 to 80 pounds in the captain's chair or cot of an ambulance and can fold to create a thin profile, minimizing necessary storage space in an ambulance. NHTSA is not aware of any domestically-produced child seats on the market that are convertible, have a 5 to 80 pound weight allowance, and fold to create a thin profile. NHTSA was able to locate one domestically-produced convertible car seat, the Safety 1st 3-in-1 Elite Air 80 Convertible Car Seat, which has a 5 to 80 pound weight allowance and a steel frame and can secure children up to 80 pounds in the harness. However, the Elite Air 80 does not fold to create a thin profile. Although this car seat is made in the United States, NHTSA believes it is not comparable to the Radian Model 120 because it does not fold to create a thin profile, which is a factor because ambulance services have stated that there is insufficient space to store typical child seats that do not fold.

Since a child seat that meets the requirements identified by the New Hampshire Highway Safety Agency is unavailable from a domestic manufacturer, the Buy America waiver is appropriate. NHTSA invites public comment on this conclusion.

In light of the above discussion, and pursuant to 23 U.S.C. 313(b)(2), NHTSA finds that it is appropriate to grant a waiver from the Buy America requirement to the New Hampshire Highway Safety Agency to purchase Radian Model 120 child seats. This waiver applies to New Hampshire and all other States seeking to use section 402 funds to purchase Radian Model 120 child seats for the purposes mentioned herein. These waivers will continue through fiscal year 2015 and will allow the purchase of these items as required by the New Hampshire Highway Safety Agency. Accordingly, this waiver will expire at the conclusion of fiscal year 2015 (September 30, 2015). In accordance with the provisions of Section 117 of the Safe, Accountable, Flexible, Efficient Transportation Equity Act: A Legacy of Users Technical Corrections Act of 2008 (Pub. L. 110-244, 122 Stat. 1572), NHTSA is providing this notice as its finding that a waiver of the Buy America requirement is appropriate. Written comments on this finding may be submitted through any of the methods discussed above. NHTSA may reconsider this finding if through the comments it learns of and can confirm the existence of a comparable domestically made product to the Radian Model 120 child seat.

This finding should not be construed as an endorsement or approval of the products by NHTSA or the U.S. Department of Transportation. The United States Government does not endorse products or manufacturers.

Authority: 23 U.S.C. 313; Pub. L. 110-161.

Issued in Washington, DC, under authority delegated in 49 CFR 1.95.
Stephen P. Wood,
Acting Chief Counsel.

[FR Doc. 2015-08954 Filed 4-17-15; 8:45 am]

BILLING CODE 4910-59-P